DEPARTMENT OF ENERGY

Federal Energy Regulatory Commission

[Docket No. CP09-39-000]

Williston Basin Interstate Pipeline Company; Notice of Request Under Blanket Authorization

January 5, 2009.

Take notice that on December 18, 2008, Williston Basin Pipeline Company (Williston Basin), 1250 West Century Avenue, Bismarck, North Dakota 58503, filed a prior notice request pursuant to Parts 157.205 and 157.210 of the Commission's regulations under the Natural Gas Act (NGA) and Williston Basin's blanket certificate issued in Docket Nos. CP82-487-000, et al., for authorization for the construction and operation of mainline gas compression facilities and appurtenances in Carter County, Montana and Golden Valley County and Dunn County, North Dakota, all as more fully set forth in the application, which is on file with the Commission and open to public inspection. The filing may also be viewed on the Web at http://www.ferc.gov using the “eLibrary” link. Enter the docket number excluding the last three digits in the docket number field to access the document. For assistance, contact FERC at FERCOnlineSupport@ferc.gov or call toll-free, (866) 208-3676 or TTY, (202) 502-8659.

Specifically, Williston Basin states that the proposed project will include an increase of compressor horsepower by adding one unit at Williston Basin's existing Manning Compressor Station in Dunn County, North Dakota; a new two-unit compressor station (Golva Compressor Station) in Golden Valley County, North Dakota; and a new two-unit compressor station (Willow Creek Compressor Station) in Carter County, Montana. Williston Basin proposes to install a new 4,735 horsepower (HP) compressor at the Manning Compressor Station, making the total design flow rate through the station 213,000 thousand cubic feet per day (Mcf/d). Williston Basin states that the proposed Golva Compressor Station will consist of two identical 3,550 HP compressors. Williston Basin asserts that that total design flow rate for the Golva Compressor Station will be 214,448 Mcf/d. Williston Basin states that the proposed Willow Creek Compressor Station will consist of two identical 3,500 HP compressors. Williston Basin asserts that the total design flow rate for the Willow Creek Compressor Station will be 139,100 Mcf/d. Williston Basin states that it has entered into binding Precedent Agreements which provide that Williston Basin will deliver a Maximum Daily Delivery Quantity (MDQ) of 75,000 Mcf/d firm transportation service during the proposed project's first in-service year. Williston Basin asserts that it projects an in-service date for the subject facilities of August 1, 2009. Williston Basin states that the estimated cost to construct the proposed facilities is approximately $28.3 million.

Any questions regarding the application should be directed to Keith A. Tiggelaar, Director of Regulatory Affairs, Williston Basin Interstate Pipeline Company, 1250 West Century Avenue, Bismarck, North Dakota 58503, at (701) 530-1560.

Any person may, within 60 days after the issuance of the instant notice by the Commission, file pursuant to Rule 214 of the Commission's Procedural Rules (18 CFR 385.214) a motion to intervene or notice of intervention. Any person filing to intervene or the Commission's staff may, pursuant to section 157.205 of the Commission's regulations under the NGA (18 CFR 157.205) file a protest to the request. If no protest is filed within the time allowed therefore, the proposed activity shall be deemed to be authorized effective the day after the time allowed for protest. If a protest is filed and not withdrawn within 30 days after the time allowed for filing a protest, the instant request shall be treated as an application for authorization pursuant to section 7 of the NGA.

The Commission strongly encourages electronic filings of comments, protests, and interventions via the internet in lieu of paper. See 18 CFR 385.2001(a)(1)(iii) and the instructions on the Commission's Web site (http://www.ferc.gov) under the “e-Filing” link.

Kimberly D. Bose,
Secretary.

[FR Doc. E9-257 Filed 1-9-09; 8:45 am]

BILLING CODE 6717-01-P